DEPARTMENT OF HEALTH AND HUMAN SERVICES

Centers for Medicare & Medicaid Services

[CMS-5501-N2]

Medicare Program; Pioneer Accountable Care Organization Model; Extension of the Submission Deadlines for the Letters of Intent and Applications

AGENCY: Centers for Medicare & Medicaid Services (CMS), HHS.

ACTION: Notice of extension of deadlines.

SUMMARY: This notice extends the deadlines for the submission of the Pioneer Accountable Care Organization Model letters of intent to June 30, 2011 and the applications to August 19, 2011.

DATES: Letter of Intent Submission Deadline: Interested organizations must submit a non-binding letter of intent by June 30, 2011 as described on the Innovation Center Web site at http://innovations.cms.gov/areas-of-focus/seamless-and-coordinated-care-models/pioneer-aco.

Application Submission Deadline: Applications must be postmarked on or before August 19, 2011. The Pioneer Accountable Care Organization Model Application is available at: http://innovations.cms.gov/areas-of-focus/seamless-and-coordinated-care-models/pioneer-aco-application/.

ADDRESSES: Applications should be submitted by mail to the following address by the date specified in the DATES section of this notice:

Pioneer ACO Model, Attention: Maria Alexander, Center for Medicare and Medicaid Innovation, Centers for Medicare and Medicaid Services, Mail Stop S3-13-05, 7500 Security Boulevard, Baltimore, MD 21244-1850.

FOR FURTHER INFORMATION CONTACT: Maria Alexander, (410) 786-4792.

SUPPLEMENTARY INFORMATION:

I. Background

We are committed to achieving the three-part aim of better health, better health care, and lower per-capita costs for Medicare, Medicaid, and Children's Health Insurance Program beneficiaries. One potential mechanism for achieving this goal is for CMS to partner with groups of health care providers of services and suppliers with a mechanism for shared governance that have formed an Accountable Care Organization (ACO) through which they work together to manage and coordinate care for a specified group of patients. We will pursue such partnerships through two complementary efforts, the Medicare Shared Savings Program, and initiatives undertaken by the Center for Medicare and Medicaid Innovation (Innovation Center).

The Pioneer ACO Model is an Innovation Center initiative targeted at organizations that can demonstrate the improvements in financial and clinical performance with respect to the care of Medicare beneficiaries that are possible in a mature ACO. To be eligible to participate in the Pioneer ACO Model, organizations would ideally already be coordinating care for a significant portion of patients under financial risk sharing contracts and be positioned to transform both their care and financial models from fee-for-service to a three-part aim, value based model.

On May 17, 2011, we posted a request for applications to participate in the Pioneer ACO Model on the Innovation Center Web site and we subsequently published a notice announcing the request for applications in the May 20, 2011 Federal Register (76 FR 29249). On the Innovation Center Web site, we specified that the submission deadline for the letter of intent was June 10, 2011 and that the application deadline was to be postmarked on or before July 18, 2011. For more details see the request for application which is available on the Innovation Center Web site at http://innovations.cms.gov/areas-of-focus/seamless-and-coordinated-care-models/pioneer-aco. However, in the May 20, 2011 notice, we specified that the submission deadlines were June 10, 2011 and not later than 5 p.m. on July 19, 2011, respectively. Therefore, in the June 8, 2011 Federal Register (76 FR 33306), we published a correction notice that corrected our error in the application submission deadline.

II. Provisions of the Notice

The Innovation Center is committed to working with stakeholders to develop initiatives to test innovative payment and service delivery models to reduce program expenditures while enhancing the quality of care available to beneficiaries. Being responsive to the suggestions of the stakeholder community is critical to the success of the Innovation Center's efforts to achieve the three-part aim of better healthcare, better health, and reduced costs through improvement. As part of this commitment, and based on the feedback from the community of potential applicants, the Innovation Center is extending the following deadlines relating to the Pioneer ACO Model: (1) The deadline for submission of the letter of intent has been extended to June 30, 2011; and (2) the deadline for the submission of the application has been extended to August 19, 2011. Therefore in the DATES section of this notice, we included the new submissions deadlines and in the ADDRESSES section we provide the address to which the applications must be mailed.

Authority: Section 1115A of the Social Security Act.

Dated: June 8, 2011.
Donald M. Berwick,
Administrator, Centers for Medicare & Medicaid Services.

[FR Doc. 2011-14678 Filed 6-9-11; 4:15 pm]

BILLING CODE 4120-01-P